DEPARTMENT OF COMMERCE

International Trade Administration

[A-533-808]

Stainless Steel Wire Rods From India: Notice of Rescission of Antidumping Duty Administrative Review

AGENCY: Import Administration, International Trade Administration, Department of Commerce.

SUMMARY: On May 19, 2006, the Department of Commerce (The Department) published a notice of its intent to rescind the administrative review of the antidumping duty order on stainless steel wire rods from India for Viraj Alloys, Ltd., Viraj Forgings, Ltd., Viraj Impoexpo, Ltd., Viraj Smelting, Viraj Profiles, and VSL Wires, Ltd. (collective, the Viraj entities), and Mukand Limited (Mukand) due to the lack of suspended entries of merchandise subject to the order during the period December 1, 2004, through November 30, 2005. See Stainless Steel Wire Rods from India: Notice of Intent of Rescind Antidumping Duty Administrative Review, 71 FR 29124 (May 19, 2006). The Department received comments from Mukand and rebuttal comments from the petitioner, Carpenter Technology Corporation, regarding Mukand but did not receive any comments from any parties regarding the Viraj entities. We are now rescinding the administrative review with respect to the Viraj entities and Mukand.

DATES: Effective Date: July 18, 2006.

FOR FURTHER INFORMATION CONTACT: Kristin Case or John Holman, AD/CVD Operations Office 5, Import Administration, International Trade Administration, U.S. Department of Commerce, 14th Street and Constitution Avenue, NW., Washington, DC 20230; telephone (202) 482-3174 or (202) 482-3683, respectively.

SUPPLEMENTARY INFORMATION:

Background

After initiating an administrative review of the Viraj entities and Mukand (see Notice of Initiation of Antidumping and Countervailing Duty Administrative Reviews and Request for Revocation in Part, 71 FR 5241 (February 1, 2006)), the Department determined that there were no suspended entries of merchandise subject to the order involving any of the Viraj entities or Mukand for the period of review (POR). Therefore, it published a notice of intent to rescind the administrative review and requested comments with respect to its intent to rescind the administrative review of wire rods from India. See Stainless Steel Wire Rods from India: Notice of Intent to Rescind Antidumping Duty Administrative Review, 71 FR 29124 (May 19, 2006) (Intent to Rescind).

On May 18, 2006, Mukand submitted a letter claiming that it had an entry of subject merchandise during the POR. The letter included a copy of U.S. Customs and Border Protection (CBP) form 7501 which indicated a November 2005 entry date. On June 5, 2006, Mukand submitted a case brief and documentation to support its claim that it had an entry during the POR. On June 16, 2006, the petitioner submitted comments rebutting Mukand's arguments. At the request of Mukand, on June 21, 2006, we held a hearing on our intent to rescind the administrative review with respect to Mukand. The Department did not receive comments concerning its intent to rescind the administrative review of the Viraj entities.

Scope of the Order

The products covered by this order are certain stainless steel wire rods, which are hot-rolled or hot-rolled annealed and/or pickled rounds, squares, octagons, hexagons or other shapes, in coils. Wire rods are made of alloy steels containing, by weight, 1.2 percent or less of carbon and 10.5 percent or ore of chromium, with or without other elements. These products are only manufactured by hot-rolling, are normally sold in coiled form, and are of solid cross section. The majority of wire rods sold in the United States are round in cross-section shape, annealed, and pickled. The most common size is 5.5 millimeters in diameter.

The products are currently classifiable under subheadings 7221.00.0005, 7221.00.0015, 7221.00.0030, 7221.00.0045, and 7221.00.0075 of the Harmonized Tariff Schedule of the United States (HTSUS). Although the HTSUS subheadings are provided for convenience and customs purposes, our written description of the scope of this proceeding remains dispositive.

Analysis of Comments Received

All issues concerning the Intent to Rescind raised in the case and rebuttal briefs by parties to the administrative review of the order on stainless steel wire rods from India are addressed in the “Issues and Decision Memorandum” (Decision Memo) from Stephen J. Claeys, Deputy Assistant Secretary, to David M. Spooner, Assistant Secretary, dated July 12, 2006, which is hereby adopted by this notice. The Decision Memo, which is a public document, is on file in the Central Records Unit, main Commerce building, Room B-099, and is accessible on the Web at http://ia.ita.doc.gov/frn/index.html. The paper copy and electronic version of the Decision Memo are identical in content.

Rescission of Administrative Review

Section 751(a) of the Act provides that, when conducting administrative reviews, the Department shall determine the dumping margin for entries during the POR. Further, according to 19 CFR 351.213(d)(3), the Department may rescind an administrative review in whole or only with respect to a particular exporter or producer if it concludes that, during the POR, there were no entries, exports, or sales of the subject merchandise, as the case may be. The Department has consistently interpreted the statutory and regulatory language as requiring “that there be entries during the period of review upon which to assess antidumping duties.” See Granular Polytetrafluoroethylene Resin from Japan: Notice of Rescission of Antidumping Duty Administrative Review, 70 FR 44088, 44088 (August 1, 2005), and Stainless Steel Plate in Coils from Taiwan: Final Rescission of Antidumping Duty Administrative Review, 66 FR 18610 (April 10, 2001). In Allegheny Ludlum Corp. v. United States, 346 F.3d 1368 (Fed. Cir. 2003), the Court of Appeals for the Federal Circuit upheld the Department's practice of rescinding annual reviews when there are no entries of subject merchandise during the POR. See also Stainless Steel Plate in Coils from Taiwan: Final Rescission of Antidumping Duty Administrative Review, 68 FR 63067, 63068 (November 7, 2003) (stating that “the Department's interpretation of its statute and regulations, as affirmed by the Court of Appeals for the Federal Circuit, supports not conducting an administrative review when the evidence on the record indicates that respondents had no entries of subject merchandise during the POR”).

Viraj Entities

Previously we determined that “there are no suspended entries of merchandise subject to the order involving any of the Viraj entities for the POR.” See Intent to Rescind. Further, we received no comments with respect to this determination. Therefore, we are rescinding the review with respect to the Viraj Entities.

Mukand

Previously we determined that “there were no entries of merchandise subject to the order from Mukand during the POR.” See Intent to Rescind.

After a review of all of the facts on the record, we have determined that Mukand's entry in question entered after the POR. We found that the entry documentation submitted by Mukand was actually pre-filed and indicated the broker's elected date of entry and not the actual date of entry. Morever, Mukand confirmed this fact when it stated in its case brief that “wire rod then moved in bond from Los Angeles to Chicago. When it arrived in Chicago Customs, Customs indicated a December 5, 2006, release date as the arrival date in the Port of Chicago.” See Mukand's Letter to the Secretary, dated June 5, 2006.

Thus, we are rescinding the review with respect to Mukand. For a detailed discussion of this issue, see the Decision Memo and also the “Memorandum to the File” from the analyst through Minoo Hatten, Program Manager, “2004-2005 Entry of Stainless Steel Wire Rods from India by Mukand Limited,” dated July 12, 2006.

Thus, the regulations, previous administrative decisions, and case law all support rescission of the administrative review in this case. Therefore, the Department rescinds the administrative review with respect to the Viraj entities and Mukand.

This notice is published in accordance with sections 751(a)(1) and 777(i)(l) of the Act and 19 CFR 351.213(d).

Dated: July 12, 2006.
Stephen J. Claeys,
Deputy Assistant Secretary for Import Administration.

[FR Doc. 06-6300 Filed 7-7-06; 8:45 am]

BILLING CODE 3510-DS-M